DEPARTMENT OF HEALTH AND HUMAN SERVICES

Centers for Disease Control and Prevention

[30Day-09-09AC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Occupational Injuries and Illnesses Among Emergency Medical Services (EMS) Workers: A NEISS-Work Telephone Interview Survey—New—National Institute for Occupational Safety and Health (NIOSH), Centers for Disease Control and Prevention (CDC).

Background and Brief Description

Studies have reported that EMS workers have higher rates of non-fatal injuries and illnesses as compared to the general worker population. As EMS professionals are tasked with protecting the health of the public and treating urgent medical needs, it follows that understanding and preventing injuries and illnesses among EMS workers will have a benefit reaching beyond the workers to the general public.

As mandated in the Occupational Safety and Health Act of 1970 (Pub.L 91-596), the mission of NIOSH is to conduct research and investigations on occupational safety and health. Related to this mission, the purpose of this project is to conduct research that will provide a detailed description of non-fatal occupational injuries and illnesses incurred by EMS workers. The project will use two related data sources. The first source is data abstracted from medical records of EMS workers treated in a nationally stratified sample of emergency departments. These data are routinely collected by the occupational supplement to the National Electronic Injury Surveillance System (NEISS-Work). The second data source, for which NIOSH is seeking OMB approval, is responses to telephone interview surveys of the injured and ill EMS workers identified within NEISS-Work.

The proposed telephone interview surveys will supplement NEISS-Work data with an extensive description of EMS worker injuries and illnesses, including worker characteristics, injury types, injury circumstances, injury outcomes, and use of personal protective equipment. Previous reports describing occupational injuries and illnesses to EMS workers provide limited details on specific regions or sub-segments of the population. As compared to these earlier studies, the scope of the telephone interview data will be broader as it includes sampled cases nationwide and has no limitations in regards to type of employment (i.e., volunteer versus career). Results from the telephone interviews will be weighted and reported as national estimates.

The sample size for the telephone interview survey is estimated to be approximately 175 EMS workers annually for the proposed four year duration of the study. This estimate is based on the number of EMS workers identified in previous years of NEISS-Work data and a 50% response rate that is comparable to the rate of previously conducted National Electronic Injury Surveillance System telephone interview studies. Each telephone interview will take approximately 20 minutes to complete, resulting in an annualized burden estimate of 58 hours.

This project is a collaborative effort between the Division of Safety Research in the NIOSH and the Office of Emergency Medical Services in the National Highway Traffic Safety Administration. Both agencies have a strong interest in improving surveillance of EMS worker injuries and illnesses to provide the information necessary for effectively targeting and implementing prevention efforts and, consequently, reducing occupational injuries and illnesses among EMS workers.

There is no cost to respondents other than their time. The total estimated annualized burden hours are 58.

Estimated Annualized Burden Hours

Type of respondents | Number of respondents | Number of responses per respondent | Average burden per response (in hours)
EMS workers | 175 | 1 | 20/60

Dated: September 15, 2009.
Maryam Daneshvar,
Acting Reports Clearance Officer, Centers for Disease Control and Prevention.

[FR Doc. E9-23026 Filed 9-23-09; 8:45 am]

BILLING CODE 4163-18-P